DEPARTMENT OF COMMERCE

Economic Development Administration

Proposed Information Collection; Comment Request; Application for Investment Assistance

AGENCY: Economic Development Administration.

ACTION: Notice.

SUMMARY: The Department of Commerce, as part of its continuing effort to reduce paperwork and respondent burden, invites the general public and other Federal agencies to take this opportunity to comment on proposed and/or continuing information collections, as required by the Paperwork Reduction Act of 1995 (44 U.S.C. Chapter 35). The purpose of this notice is to allow for 60 days of public comment. Comments submitted in response to this notice will be summarized and/or included in the request for Office of Management and Budget (OMB) approval of this information collection; they also will become a matter of public record.

DATES: Written comments must be submitted on or before June 19, 2015.

ADDRESSES: Direct all written comments to Jennifer Jessup, Departmental Paperwork Clearance Officer, Department of Commerce, Room 6616, 14th and Constitution Avenue NW., Washington, DC 20230 (or via email at JJessup@ doc.gov).

FOR FURTHER INFORMATION CONTACT: Requests for additional information or copies of the information collection instrument and instructions should be directed to Kerstin Millius, Senior Program Analyst, Performance and National Programs Division, Room 71030, Economic Development Administration, 14th and Constitution Avenue NW., Washington, DC 20230, (or via email at kmillius@ eda.gov).

SUPPLEMENTARY INFORMATION:

I. Abstract

The mission of the Economic Development Administration (EDA) is to lead the Federal economic agenda by promoting innovation and competitiveness, preparing American regions for growth and success in the worldwide economy. In order to effectively administer and monitor its economic development assistance programs, EDA collects certain information from applications for, and recipients of, EDA investment assistance. This 60-day Federal Register Notice covers changes to EDA's existing Application for Investment Assistance.

EDA is currently undergoing a comprehensive review and improvement effort for its grants cycle process. Using staff input and results from EDA's 2014 Customer Service survey, EDA has reimagined its grants application process from the ground up, making significant improvements for both stakeholders and staff. As part of this process, EDA is making changes to its forms to address the following concerns:

• Confusion among applicants regarding which sections of the ED-900 needed to be completed for the program they were applying for;

• Undue burden on applicants to complete the application form for projects that were not likely to be funded;

• Outdated links to external sources;

• Unnecessary waste of paper and ink when a complete form was printed, since sections that may not be required for a particular program were printed along with those that were required.

In order to address these concerns, EDA is dividing the ED-900 into a suite of smaller forms that can be mixed and matched to fit the needs of different program solicitations on Grants.gov. This will ensure that applicants only see the information they are required to provide in order to apply and eliminate the unnecessary waste of paper and ink resources. In addition, EDA has developed a new “Proposal” form, which will allow applicants to submit significantly less information to EDA in order to get a better understanding of the potential competitiveness of their application. The following is a crosswalk of the currently approved ED-900 with the proposed new forms:

Proposed new form | Content of the form | Relevant sections of the existing ED-900
ED-900—General Application for EDA Programs | Questions that pertain to all EDA programs, including Project Narrative questions (geographic coverage, scope of work, potential impacts), budget narrative, and eligibility questions | Sections A, B, C, D, E, K.
ED-900A—Additional EDA Assurances for Construction Or Non-Construction Investments | Specific assurances that applicants need to provide in order to apply for EDA funding | Exhibits B, C, and D.
ED-900B—Beneficiary Information Form | Specific assurances required from beneficiaries of EDA funding, including documentation of estimated jobs and private investment resulting from the EDA project | Exhibit A.
ED-900C—EDA Application Supplement for Construction Programs | Information required from construction applicants as part of a full application after the proposal has been approved | Section M, except questions included in the ED-900P Proposal Form.
ED-900D—Requirements for Design and Engineering Assistance | Information required from design/engineering applicants as part of a full application after the proposal has been approved | Section N.
ED-900E—Calculation of Estimated Relocation and Acquisition Expenses | Provides detailed breakdown of the estimated total for line item 3 (“relocation expenses and payments”) of Form SF-424C, 'Budget Information'—Construction Programs to comply with the Uniform Relocation Act | Exhibit E.
ED-900F—Supplement for Revolving Loan Fund Applications | Information required to evaluate the competitiveness of a revolving loan fund application | Section L.
ED-900P—Proposal for EDA Assistance | New general questions to allow applicants to give a broad overview of their proposed project/scope of work | For all applicants, new questions not contained in the ED-900. For construction applicants only, portions of section M not covered in the ED-900C Construction Form.
Environmental Narrative Requirements and Appendix A: Applicant Certification Clause | Template to guide the applicant through the development of an environmental narrative that satisfies the requirements of the National Environmental Policy Act (NEPA) | Referenced in section M.8, with separate documents posted on EDA's website.

The new forms are required to apply for EDA investment assistance under EDA's Public Works, Economic Adjustment, Technical Assistance, Research, and Planning programs. This collection of information is required to ensure that applications meet the requirements for EDA assistance set out in EDA's regulations at 13 CFR Chapter III.

II. Method of Collection

Paper and electronic submissions.

III. Data

OMB Control Number: 0610-0094.

Form Number(s): ED-900, ED-900A, ED-900B, ED-900C, ED-900D, ED-900E, ED-900F, ED-900P.

Type of Review: Regular submission; Revision of a currently approved collection.

Affected Public: Not-for-profit institutions; Federal government; State, local, or tribal government; Business or other for-profit organizations.

Estimated Number of Respondents: 1672.

Estimated Time Per Response: 13 hours, 28 minutes

Estimated Total Annual Burden Hours: 22,512.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Dated: April 16, 2015.
Glenna Mickelson,
Management Analyst, Office of the Chief Information Officer.

[FR Doc. 2015-09181 Filed 4-20-15; 8:45 am]

BILLING CODE 3510-34-P